DEPARTMENT OF TRANSPORTATION

Federal Aviation Administration

14 CFR Part 39

[Docket No. FAA-2005-21275; Directorate Identifier 2005-CE-28-AD]

RIN 2120-AA64

Airworthiness Directives; The Cessna Aircraft Company Models 208 and 208B Airplanes

AGENCY: Federal Aviation Administration (FAA), DOT.

ACTION: Notice of proposed rulemaking (NPRM).

SUMMARY: The FAA proposes to adopt a new airworthiness directive (AD) for all The Cessna Aircraft Company (Cessna) Models 208 and 208B airplanes. This proposed AD would require you to install a pilot assist handle, Cessna part number SK208-146-2, for all affected airplanes, install deicing boots on landing gear struts and cargo pod on certain Cessna Models 208 and 208B airplanes, and make changes to the Pilot's Operating Handbook (POH) and FAA-approved Airplane Flight Manual (AFM), and to the POH and AFM Supplement S1 for all affected airplanes. This proposed AD results from reports of several accidents and of problematic events involving the affected airplanes during operations in icing conditions, including nine events in the 2004-2005 icing season, and ground icing conditions. We are issuing this proposed AD to prevent ice adhering to critical surfaces. Ice adhering to critical surfaces could result in a reduction in airplane performance with the consequences that the airplane cannot perform a safe takeoff, climb, or maintain altitude.

DATES: We must receive any comments on this proposed AD by August 22, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., NASSIF Building, Room PL-401, Washington, DC 20590-001.

• Fax: 1-202-493-2251.

• Hand Delivery: Room PL-401 on the plaza level of the NASSIF Building, 400 Seventh Street, SW., Washington, DC, between 9 a.m. and 5 p.m., Monday through Friday, except Federal holidays.

To get the service information identified in this proposed AD, contact The Cessna Aircraft Company, Product Support, P.O. Box 7706, Wichita, Kansas 67277-7706; telephone: (316) 517-5800; facsimile: (316) 942-9006.

To view the comments to this proposed AD, go to http://dms.dot.gov. The docket number is FAA-2005-21275; Directorate Identifier 2005-CE-28-AD.

FOR FURTHER INFORMATION CONTACT: Paul Pellicano, Aerospace Engineer (Icing), FAA, Small Airplane Directorate, c/o Atlanta Aircraft Certification Office (ACO), One Crown Center, 1985 Phoenix Boulevard, Suite 450, Atlanta, GA 30349; telephone: (770) 703-6064; facsimile: (770) 703-6097.

SUPPLEMENTARY INFORMATION:

Comments Invited

How do I comment on this proposed AD? We invite you to submit any written relevant data, views, or arguments regarding this proposal. Send your comments to an address listed under ADDRESSES. Include the docket number, “FAA-2005-21275; Directorate Identifier 2005-CE-28-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2005-21275; Directorate Identifier 2005-CE-28-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? The FAA has received several reports of accidents and incidents concerning problems with Cessna Models 208 and 208B airplanes during operations in icing conditions. This includes a total of six accidents in the previous two icing seasons and nine incidents in the past few months. One-third of the Model 208 icing related accidents occurred as a result of loss of control after takeoff in ground icing conditions. One-third are suspected to have occurred in supercooled large droplets, icing conditions outside the 14 CFR part 25 Appendix C certification envelope. The Cessna Models 208 and 208B are certificated to 14 CFR part 23, but 14 CFR part 23 references 14 CFR part 25 Appendix C for icing certification.

Findings from the accidents conclude that there was a reduction in airplane performance due to drag from airframe ice accretion. The airplanes could not perform a safe takeoff, climb, or maintain altitude.

What is the potential impact if FAA took no action? Ice adhering to critical surfaces could result in a reduction in airplane performance with the consequence that the airplane cannot climb or maintain altitude.

Is there service information that applies to this subject? Cessna has issued the following service information:

—Service Bulletin No. CAB04-9, dated October 4, 2004;

—Service Kit No. SK208-146, dated October 4, 2004;

—Service Bulletin No. CAB95-19, dated October 13, 1995;

—Service Bulletin No. CAB93-20, Revision 1, dated October 13, 1995; and

—Accessory Kit No. AK208-6C, issued December 2, 1991, Revision C, dated August 27, 1993.

What are the provisions of this service information? The service information includes procedures for:

—Adding a low airspeed in icing warning system, a windshield ice indicator assembly, a pilot assist handle, and an enlarged windshield anti-ice panel; and

—Installing cargo pod and landing gear deice system.

FAA's Determination and Requirements of this Proposed AD

What has FAA decided? We have evaluated all pertinent information and identified an unsafe condition that is likely to exist or develop on other products of this same type design. For this reason, we are proposing AD action.

What would this proposed AD require? This proposed AD would require you to:

—Install the pilot assist handle (part number (P/N) SK208-146-2) for all Cessna Models 208 and 208B airplanes;

—Install Cessna Accessory Kit AK208-6C for all Cessna Models 208 and 208B airplanes equipped with pneumatic deicing boots for flight into known icing; and

—Make changes to the Pilot's Operating Handbook ( POH) and FAA-approved Airplane Flight Manual (AFM), and to the POH and AFM Supplement S1.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 743 airplanes in the U.S. registry.

What would be the cost impact of this proposed AD on owners/operators of the affected airplanes? We estimate the following costs to do the proposed installation of the pilot assist handle (P/N SK208-146-2) for all Cessna Models 208 and 208B airplanes:

Labor cost | Parts cost | Total cost per airplane | Total cost on U.S. operators
5 work hours × $65 = $325 | $858 | $1,183 | 743 × $1,183 = $878,969

We estimate the following costs to do the proposed installation of the Cessna Accessory Kit AK208-6C for certain Cessna Modes 208 and 208B:

Labor cost | Parts cost | Total cost per airplane | Total cost on U.S. Operators
37 work hours × $65 = $2,405 | $6,000 | $8,405 | 372 × $8,405 = $3,126,660

We estimate the following costs to do the proposed changes to the Pilot's Operating Handbook (POH) and FAA-approved Airplane Flight Manual (AFM), and to the POH and AFM Supplement S1:

Labor cost | Parts cost | Total cost per airplane | Total cost on U.S. operators
1 work hour × $65 = $65 | Not Applicable | $65 | 743 × $65 = $48,295

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the National Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “AD Docket FAA-2005-21275; Directorate Identifier 2005-CE-28-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Cessna Aircraft Company: Docket No. FAA-2005-21275; Directorate Identifier 2005-CE-28-AD

When Is the Last Date I Can Submit Comments on This Proposed AD?

(a) We must receive comments on this proposed airworthiness directive (AD) by August 22, 2005.

What Other ADs Are Affected by This Action?

(b) None.

What Airplanes Are Affected by This AD?

(c) This AD affects Models 208 and 208B, all serial numbers, that are certificated in any category.

What Is the Unsafe Condition Presented in This AD?

(d) This AD is the result of reports of several accidents and of problematic events involving the affected airplanes during operations in icing conditions, including nine events in the 2004-2005 icing season, and ground icing conditions. The actions specified in this AD are intended to prevent ice adhering to critical surfaces. Ice adhering to critical surfaces could result in a reduction in airplane performance, with the consequence that the airplane cannot perform a safe takeoff, climb, or maintain altitude. The pilot assist handle will allow a pre-takeoff visual/tactile check of the wing upper surface to be safely conducted in ground icing conditions.

What Must I Do To Address This Problem?

(e) To address this problem, you must do the following:

Actions | Compliance | Procedures
(1) For Cessna Models 208 and 208B: Install the pilot assist handle (part number (P/N) SK208-146-2) | Within the next 125 days after the effective date of this AD, unless already done | Follow Cessna Caravan Service Bulletin No. CAB04-9, dated October 4, 2004 and Cessna Caravan Service Kit No. SK208-146, dated October 4, 2004.
(2) For any Cessna Model 208B airplane with Pratt & Whitney of Canada Ltd., PT6A-114 Turbo Prop engine installed (600 SHP) or equivalent, and equipped with pneumatic deicing boots for flight into known icing: Install Cessna Accessory Kit AK208-6C | Within the next 125 days after the effective date of this AD, unless already done | Follow Cessna Caravan Service Bulletin No. CAB95-19, dated October 13, 1995, and Cessna Caravan Accessory Kit No. AK208-6C, issued December 2, 1991, Revision C, dated August 27, 1993.
(3) For any Cessna Models 208 and 208B airplanes equipped with pneumatic deicing boots for flight into known icing and not included in Paragraph (e)(2): Install Cessna Accessory Kit AK208-6C | Within the next 125 days after the effective date of this AD, unless already done | Follow Cessna Caravan Service Bulletin No. CAB93-20, Revision 1, dated October 13, 1995, and Cessna Caravan Acessory Kit no. AK208-6C, issued December 2, 1991, Revision C, dated August 27, 1993.
(4) For all Cessna Models 208 and 208B equipped with pneumatic deicing boots: Make the changes (identified in the Appendix to this AD) to the Cessna Models 208 or 208B Pilot's Operating Handbook (POH) and FAA approved Airplane Flight Manual (AFM) or FAA-approved later versions of the POH and AFM that incorporate the same information addressed in this AD | Before further flight after the installation required by paragraph (e)(2) or (e)(3) of this AD | You may make the changes by pen or other permanent means and insert a copy of this AD into the appropriate sections of the POH.

(f) The owner/operator holding at least a private pilot certificate as authorized by section 43.7 of the Federal Aviation Regulations (14 CFR 43.7) may do the flight manual and POH changes requirement of this AD. Make an entry in the aircraft records showing compliance with this portion of the AD following section 43.9 of the Federal Aviation Regulations (14 CFR 43.9).

May I Request an Alternative Method of Compliance?

(g) You may request a different method of compliance or a different compliance time for this AD by following the procedures in 14 CFR 39.19. Unless FAA authorizes otherwise, send your request to your principal inspector. The principal inspector may add comments and will send your request to the Manager, Atlanta Aircraft Certification Office (ACO), FAA. For information on any already approved alternative methods of compliance, contact Paul Pellicano, Aerospace Engineer (Icing), FAA, Small Airplane Directorate, c/o Atlanta ACO, One Crown Center, 1985 Phoenix Boulevard, Suite 450, Atlanta, GA 30349; telephone: (770) 703-6064; facsimile: (770) 703-6097.

May I Get Copies of the Documents Referenced in This AD?

(h) To get copies of the documents referenced in this AD, contact The Cessna Aircraft Company, Product Support, P.O. Box 7706, Wichita, Kansas 67277-7706; telephone: (316) 517-5800; facsimile: (316) 942-9006. To view the AD docket, go to the Docket Management Facility; U.S. Department of Transportation, 400 Seventh Street, SW., NASSIF Building, Room PL-401, Washington, DC, or on the Internet at http://dms.dot.gov. The docket number is Docket No. FAA-2005-21275; Directorate Identifier 2005-CE-28-AD.

Issued in Kansas City, Missouri, on June 14, 2005.
John R. Colomy,
Acting Manager, Small Airplane Directorate, Aircraft Certification Service.

Appendix to Docket No. FAA-2005-21275; Changes to the Cessna Models 208 or 208B Pilot's Operating Handbook (POH) and FAA Approved Airplane Flight Manual

Affected Cessna Models 208 or 208B Pilot's Operating Handbook (POH) and FAA Approved Airplane Flight Manual (AFM) Supplement S1:

1. Cessna Model 208 (600 SHP) Pilot's Operating Handbook, Supplement S1, Revision 5, D1307-S1-05, dated March 2, 2005.

2. Cessna Model 208 (675 SHP) Pilot's Operating Handbook, Supplement S1, Revision 5, D1352-S1-05, dated March 2, 2005.

3. Cessna Model 208B (600 SHP) Pilot's Operating Handbook, Supplement S1, Revision 5, D1309-S1-05, dated March 2, 2005.

4. Cessna Model 208B (675 SHP) Pilot's Operating Handbook, Supplement S1, Revision 6, D1329-S1-06, dated March 2, 2005.

Remove the following paragraph under “REQUIRED EQUIPMENT” in the Limitations section of the Affected Cessna Models 208 or 208B Pilot's Operating Handbook (POH), Supplement S1:

“The following additional equipment is not required for flight into icing conditions as defined by FAR 25, but may be installed on early serial airplanes by using optional accessory Kit AK208-6. On later serial airplanes, this equipment may be included with the flight into known icing package. If installed, this equipment must be fully operational:''

Affected Cessna Models 208 or 208B Pilot's Operating Handbook (POH) and FAA Approved Airplane Flight Manuals or FAA-approved later versions that incorporate the same information addressed in this AD:

1. Cessna Model 208 (600 SHP) Pilot's Operating Handbook, Revision 33, D1307-33-13PH, dated October 30, 2002.

2. Cessna Model 208 (675 SHP) Pilot's Operating Handbook, Revision 6, D1352-6-13PH, dated October 30, 2002.

3. Cessna Model 208B (600 SHP) Pilot's Operating Handbook, Revision 28, D1309-28-13PH, dated October 30, 2002.

4. Cessna Model 208B (675 SHP) Pilot's Operating Handbook, Revision 22, D1329-22-13PH, dated October 30, 2002.

Add the following to the equipment listed under “FLIGHT INTO KNOWN ICING” in the “KINDS OF OPERATION LIMITS” in the LIMITATIONS section of the FAA approved Flight Manual (AFM) or FAA-approved later versions that incorporate the same information addressed in this AD:

“Lower main landing gear leading edge deice boots''

“Cargo pod nosecap deice boot''

[FR Doc. 05-12149 Filed 6-20-05; 8:45 am]

BILLING CODE 4910-13-P